DEPARTMENT OF VETERANS AFFAIRS

[OMB Control No. 2900-New]

Proposed Information Collection Activity: Proposed Collection; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments for information needed to conduct a study to determine whether there was an increased prevalence of illnesses among veterans due to service in the Gulf War.

DATES: Written comments and recommendations on the proposed collection of information should be received on or before June 28, 2002.

ADDRESSES: Submit written comments on the collection of information to Ann W. Bickoff, Veterans Health Administration (193B1), Department of Veterans Affairs, 810 Vermont Avenue, NW., Washington, DC 20420 or e-mail ann.bickoff@mail.va.gov. Please refer to “OMB Control No. 2900-New” in any correspondence.

FOR FURTHER INFORMATION CONTACT: Ann W. Bickoff (202) 273-8310 or FAX (202) 273-9381. These are not toll-free numbers.

SUPPLEMENTARY INFORMATION: Under the PRA of 1995 (Public Law 104-13; 44 U.S.C., 3501—3520), Federal agencies must obtain approval from the Office of Management and Budget (OMB) for each collection of information they conduct or sponsor. This request for comment is being made pursuant to Section 3506(c)(2)(A) of the PRA.

With respect to the following collection of information, VHA invites comments on:

(1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Longitudinal Health Study of Gulf War Veterans, VA Form 10-21055(NR).

OMB Control Number: 2900-New.

Type of Review: New collection.

Abstract: The Department of Veterans Affairs has designed a longitudinal study of Gulf War veterans to evaluate the health of veterans ten years after the Gulf War. The study will allow VA to monitor the health of veterans over time to determine the extent of the health problems among Gulf War veterans and whether health status of Gulf War veterans is better or worse than the health of veterans who were not deployed to the Gulf.

Affected Public: Individuals or households.

Estimated Annual Burden: 3,966 hours.

Estimated Average Burden Per Respondent: 30 minutes.

Frequency of Response: Every 3 years.

Estimated Number of Respondents: 7,933.

Dated: April 18, 2002.
By direction of the Secretary:
Barbara H. Epps,
Management Analyst, Information Management Service.

[FR Doc. 02-10423 Filed 4-26-02; 8:45 am]

BILLING CODE 8320-01-P